DEPARTMENT OF JUSTICE

Notice of Lodging of Consent Judgment Pursuant to Federal Water Pollution Control Act

Notice is hereby given that on April 28, 2006, a proposed Consent Judgment in United States and State of New York v. County of Suffolk, et al., Civil Action No. CV-06-1978, was lodged with the United States District Court for the Eastern District of New York.

The United States and the State of New York sued the County of Suffolk, Suffolk County Department of Public Works, and Charles J. Bartha, Commissioner of the Suffolk County Department of Public Works (collectively, “Suffolk”) under seciton 309(b) and (d) of the Federal Water Pollution Control Act, 33 U.S.C. 1319(b) and (d), and under State law for alleged violations of Suffolk's Industrial Waste Pretreatment Program (IPP) and its State Pollutant Discharge Elimination System (SPDES) Permits. The Consent Judgment resolves these claims and requires Suffolk to pay a civil penalty of $300,000, to fund a supplemental environmental project in the amount of $700,000, and to comply with its IPP and SPDES Permits.

The Department of Justice will receive for a period of thirty (30) days from the date of this publication comments relating to the proposed Consent Judgment. Comments should be addressed to the Assistant Attorney General of the Environment and Natural Resources Division, U.S. Department of Justice, Washington, DC 20530, and should refer to United States, et al v. County of Suffolk., et al., DJ No. 90-5-1-1-5065/1.

The proposed Consent Judgment may be examined at the Office of the United States Attorney, Eastern District of New York, One Pierrepont Plaza, 14th Fl., Brooklyn, New York 11201, and at the United States Environmental Protection Agency, Region II, 290 Broadway, New York, New York 10007-1866. During the public comment period, the proposed Consent Judgment may also be examined on the following Department of Justice Web site, http://www.usdoj.gov./enrd/open.html. A copy of the proposed Consent Judgment may be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. If requesting a copy of the proposed Consent Judgment, please so note and enclose a check in the amount of $17.00 (25 cents per page reproduction cost) payable to the U.S. Treasury.

Ronald Gluck,
Assistant Section Chief, Environmental Enforcement Section, Environment and Natural Resources Division.

[FR Doc. 06-4373 Filed 5-10-06; 8:45 am]

BILLING CODE 4410-15-M